DEPARTMENT OF JUSTICE

Antitrust Division

Notice Pursuant to the National Cooperative Research and Production Act of 1993—Telemanagement Forum

Notice is hereby given that, on January 11, 2018, pursuant to Section 6(a) of the National Cooperative Research and Production Act of 1993, 15 U.S.C. 4301 et seq. (“the Act”), TeleManagement Forum (“The Forum”) filed written notifications simultaneously with the Attorney General and the Federal Trade Commission disclosing changes in its membership. The notifications were filed for the purpose of extending the Act's provisions limiting the recovery of antitrust plaintiffs to actual damages under specified circumstances. Specifically, Agile Network Systems Limited, Fareham, UNITED KINGDOM; Alexander Consulting Group—ACG Digital, London, UNITED KINGDOM; Antarctic Palmtrees Limited, Watford, UNITED KINGDOM; ARGELA Yazilim ve Bilisim Teknolojileri Sanayi ve Ticaret A.S., Istanbul, TURKEY; Atilze Digital, Petaling Jaya, MALAYSIA; Bahrain Telecommunications Company (Batelco), Manama, BAHRAIN; Black Tangent Pte. Ltd., Singapore, SINGAPORE; CanGo Networks Private Ltd., Chennai, INDIA; Circa Information Corporation, Fergus, CANADA; City of Belfast, Belfast, UNITED KINGDOM; Civimetrix Telecom, Magog, CANADA; Cloudstreet, Espoo, FINLAND; Cmind Inc, Gatineau, CANADA; Comporium Communications, Rock Hill, SC; Dave Calder, Pleasant Hill, CA; Digalance, Dubai, UNITED ARAB EMIRATES; GEMALTO SA, Paris, FRANCE; GeoSpock Ltd., Cambridge, UNITED KINGDOM; HCL Hong Kong SAR Limited, Wan Chai HONG KONG-CHINA; Hochschule Fresenius für Management, Wirtschaft und Medien GmbH, Hamburg, GERMANY; Hutchison 3G UK, Maidenhead, UNITED KINGDOM; IPgallery, Ra'anana, ISRAEL; KNOWHAWK sprl, Pont-à-Celles, BELGIUM; Kurrant, Singapore, SINGAPORE; LocalSearch Web Pty Ltd, Robina, AUSTRALIA; MayerConsult Inc., Ottawa, CANADA; MTN Group Limited, Johannesburg, SOUTH AFRICA; Neustar, Sterling, VA; NF CSB d.o.o., Ljubljana, SLOVENIA; Openet, Dublin, IRELAND; Orange Luxembourg, Bertrange, LUXEMBOURG; Plintron Global Technology Solutions Pvt Ltd., Chennai, INDIA; POSITIVE MOMENTUM LIMITED, London, ENGLAND; Progresif Cellular Sdn Bhd, Bandar Seri Begawan, BRUNEI; Proximus SA, Brussels, BELGIUM; Reinfer Ltd., London, UNITED KINGDOM; ServiceMax from GE Digital, London, UNITED KINGDOM; Siminn, Reykjavík, ICELAND; SLA Digital, Belfast, UNITED KINGDOM; Telesur, Paramaribo, SURINAME; The Institute of Electrical and Electronics Engineers Incorporated, New York, NY; Trektel, Miami Lakes, FL; twim GmbH, Zug, SWITZERLAND; Vocus Communications, Melbourne, AUSTRALIA; and Vodacom Mozambique, Cidade de Maputo, MOZAMBIQUE, have been added as parties to this venture.

Also, the following members have changed their names: Monolith Software to Federos, Frisco, TX; Labcities to Antarctic Palmtrees Limited, Watford, UNITED KINGDOM; iisy AG to solvatio AG, Rimpar, GERMANY; and ForecastCons Ltd. to FORNAX d.o.o., Podgorica, MONTENEGRO.

In addition, the following parties have withdrawn as parties to this venture: AdvOSS, Richmond, CANADA; Alaska Communications Systems Holdings, Inc., Anchorage, AK; Bell Integrator, Moscow, RUSSIA; Blueline, Antananarivo, MADAGASCAR; BLUGEM COMMUNICATIONS LIMITED, Barnstaple, UNITED KINGDOM; Chorus New Zealand Limited, Wellington, NEW ZEALAND; City of Atlanta, Atlanta, GA; DigitalRoute, Stockholm, SWEDEN; Elite Business, Tunis, TUNISIA; EnterpriseWeb, Glen Falls, NY; Etihad Atheeb Telecom Company, Riyadh, SAUDI ARABIA; Fiberhome Telecommunication Technologies Co. Ltd., Wuhan, PEOPLE'S REPUBLIC OF CHINA; Fulcrum Technologies Inc., Seattle, WA; HHB SOLUTIONS LIMITED, Kowloon, HONG KONG-CHINA; Higher Logic, LLC, Arlington, VA; Hitachi Data Systems, Santa Clara, CA; Infonova, Unterpremstatten, AUSTRIA; Intellity Consulting, SpA, Lima, PERU; IPvideosys, Sunnyvale, CA; Isle of Man—MICTA, Ballasalla, ISLE OF MAN; JBS, Chernihiv, UKRAINE; Kiltartan Consulting, Rondebosch, SOUTH AFRICA; MDS Global, Warrington, UNITED KINGDOM; Mediaan/abs bv, Heerlen, NETHERLANDS; MITRE, Bedford, MA; MSTelcom, Luanda, ANGOLA; Nara Institute of Science and Technology, Ikoma, JAPAN; Now New Zealand Limited, Napier, NEW ZEALAND; Ontology Systems, London, UNITED KINGDOM; OpenCell, Paris, FRANCE; OPT Nouvelle Calédonie, Nouméa, NEW CALEDONIA; PERÚ Connect SAC, Miraflores, PERU; Pervazive, Bengaluru, INDIA; Powerlink, Virginia, AUSTRALIA; PRESECURE Consulting GmbH, Munster, GERMANY; ProCom Consulting, Alpharetta, GA; Redknee Inc., Mississauga, CANADA; ServiceMesh, Inc., Los Angeles, CA; SFR, Paris, FRANCE; Sistema Turkey, Istanbul, TURKEY; State Information Technology Agency (SITA), Pretoria East, SOUTH AFRICA; Sutherland Labs, London, UNITED KINGDOM; Suvitech Co. Ltd., Bangkok, THAILAND; T2 Yazilim Ltd. Sti., Ankara, TURKEY; TECNOCOM, Madrid, SPAIN; Telekom Brunei Berhad (TelBru), Berakas, BRUNEI; Telesens IT, Kharkiv, UKRAINE; TIERONE, Inc., Reston, VA; Trust5, Dublin, IRELAND; TWINT AG, Bern, SWITZERLAND; Uecomm Ltd., Richmond, AUSTRALIA; University Politehnica of Bucharest, Bucharest, ROMANIA; Vitis Consultoria, Brasília, BRAZIL; Vodafone Hutchison Australia, North Sydney, AUSTRALIA; Waterfront Toronto, Toronto, CANADA; Airtel Africa, Nairobi, KENYA; Bristol is Open, Bristol, UNITED KINGDOM; Symantec Corporation, Mountain View, CA; Symsoft AB, Stockholm, SWEDEN; and True Corporation Public Company Limited, Bangkok, THAILAND.

No other changes have been made in either the membership or planned activity of the group research project. Membership in this group research project remains open, and The Forum intends to file additional written notifications disclosing all changes in membership.

On October 21, 1988, The Forum filed its original notification pursuant to Section 6(a) of the Act. The Department of Justice published a notice in the Federal Register pursuant to Section 6(b) of the Act on December 8, 1988 (53 FR 49615).

The last notification was filed with the Department on July 21, 2017. A notice was published in the Federal Register pursuant to Section 6(b) of the Act on August 28, 2017 (82 FR 40806).

Patricia A. Brink,
Director of Civil Enforcement, Antitrust Division.

[FR Doc. 2018-04442 Filed 3-5-18; 8:45 am]

BILLING CODE 4410-11-P